NATIONAL AERONAUTICS AND SPACE ADMINISTRATION

[Notice: (10-119)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Lori Parker, National Aeronautics and Space Administration, Washington, DC 20546-0001.

FOR FURTHER INFORMATION CONTACT: Requests for additional information or copies of the information collection instrument(s) and instructions should be directed to Lori Parker, NASA Clearance Officer, NASA Headquarters, 300 E Street SW., JF0000, Washington, DC 20546, (202) 358-1351, Lori.Parker@nasa.gov.

SUPPLEMENTARY INFORMATION:

I. Abstract

NASA Johnson Space Center (JSC) regularly employs cooperative (Co-op) and Intern employees. This information is collected from public citizens (landlords) in and around the JSC area, who may have rooms, residences, or apartments available for rent by the co-ops and interns. Contact information for these landlords is compiled and made available to co-ops and interns who are travelling into the JSC area from distant Texas cities or from out-of-state. Access to this information, prior to co-op and intern arrival, would facilitate advance housing arrangements, and ease the burden of securing housing after arrival.

II. Method of Collection

NASA does not prescribe a format for submission, though encourages the use of computer technology for submission.

III. Data

Title: JSC Cooperative Education Program—Housing Availability.

OMB Number: 2700-xxxx.

Type of review: Existing Collection in use w/o an OMB number.

Affected Public: Individuals/households.

Estimated Number of Respondents: 101.

Estimated Time per Response: 5 minutes.

Estimated Total Annual Burden Hours: 8.4 hours.

Estimated Total Annual Cost: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2010-25191 Filed 10-5-10; 8:45 am]

BILLING CODE P